DEPARTMENT OF TRANSPORTATION

National Highway Traffic Safety Administration

[Docket No. NHTSA-2012-0002; Notice 1]

Dorel Juvenile Group, Receipt of Petition for Decision of Inconsequential Noncompliance

AGENCY: National Highway Traffic Safety Administration, DOT.

ACTION: Receipt of Petition.

SUMMARY: Dorel Juvenile Group, Inc.¹ (DJG) has determined that certain child restraint systems manufactured between July 20, 2010 and May 18, 2011 do not fully comply with paragraph S5.5 Labeling of Federal Motor Vehicle Safety Standard (FMVSS) No. 213,Child Restraint Systems. DJG has filed an appropriate report pursuant to 49 CFR part 573, Defect and Noncompliance Responsibility and Reports (dated June 23, 2011).

¹ Dorel Juvenile Group, Inc., a division of Dorel Industries, Inc., is an Indiana company that manufactures and imports motor vehicle equipment.

Pursuant to 49 U.S.C. 30118(d) and 30120(h) (see implementing rule at 49 CFR part 556), DJG has petitioned for an exemption from the notification and remedy requirements of 49 U.S.C. Chapter 301 on the basis that this noncompliance is inconsequential to motor vehicle safety.

This notice of receipt of DJG's petition is published under 49 U.S.C. 30118 and 30120 and does not represent any agency decision or other exercise of judgment concerning the merits of the petition.

Affected are approximately 89,527 of the following models of DJG child restraint systems that were manufactured between July 20, 2010 and May 18, 2011:

22187ANL Alpha Omega Elite

22187REM Alpha Omega Elite

22187REMA Alpha Omega Elite

22187SAR Alpha Omega Elite

22187SARA Alpha Omega Elite

22465 FSM Alpha Omega Elite

22790CGT Deluxe 3 in 1

CC033BMT Alpha Omega Elite

CC043ANK Alpha Omega Elite

CC043ANL Alpha Omega Elite

CC043AQS Alpha Omega Elite

CC046AAI Deluxe 3 in 1

CC046AAU Deluxe 3 in 1

CC046CTA Deluxe 3 in 1

CC046SNW Deluxe 3 in 1

CC046WPR Deluxe 3 in 1

CC050AJH Complete Air LX

CC050ANY Complete Air LX

CC050ANZ Complete Air LX

CC050AOQ Complete Air LX

CC051AIR Complete Air SE

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, these provisions only apply to the 89,527 ² child restraint systems that DJG no longer controlled at the time it determined that the noncompliance existed.

² DJG's petition, which was filed under 49 CFR part 556, requests an agency decision to exempt DJG as an equipment manufacturer from the notification and recall responsibilities of 49 CFR part 573 for 89,527 of the affected child restraint systems. However, a decision on this petition cannot relieve child restraint system distributors and dealers of the prohibitions on the sale, offer for sale, introduction or delivery for introduction into interstate commerce of the noncompliant child restraint systems under their control after DJG notified them that the subject noncompliance existed.

DJG described the noncompliance as follows:

The child restraints at issue utilize a permanently attached base which are equipped with color coordinated Ease of Use labels including base labels depicting the rear‐facing mode instructions. The issue is that certain restraints were equipped with base labels positioned on the incorrect side of the base. Even if the base labels are positioned on the incorrect side of the base, nearly all the information is correct, except the small indicator arrows do not line up with the rear‐facing vehicle and LATCH belt path for the rear‐facing mode. As noted in the Noncompliance Information Report, this voluntarily supplied information caused the installation diagram required by FMVSS 213 S5.5.2(l) to be inaccurate.

The noncompliance exists when the base labels are installed incorrectly and the indicator arrows do not point to the rear‐facing vehicle belt/LATCH routing path. The arrows are actually pointing to the area below the forward‐facing vehicle belt/LATCH path routing but could be construed as pointing to the forward‐facing routing path.

DJG stated its belief that the likelihood a consumer would interpret the arrows as indicating the proper rear‐facing path routing through the forward-facing path routing is extremely low. The proper rear‐facing vehicle belt/LATCH routing path is shown very clearly in the five diagrams on the two base labels.

DJG argued that instructions included with the subject child restraint systems also correctly depict the rear‐facing vehicle belt/LATCH routing path numerous times.

DJG noted that only one user complaint related to this issue had been received.

DJG also included the results of a survey conducted to illustrate any effects the noncompliance may have on seat installation.

In conclusion, DJG stated its belief that the technical noncompliance issue reported in the June 23, 2011 Noncompliance Information Report does not constitute a true safety related issue because there is no evidence that improper installation is actually taking place in the field (as evidenced by the lack of significant complaints from consumers, advocates, health care specialists or anyone else). DJG also stated that the preponderance of correct rear‐facing installation diagrams and instructions appears to outweigh the potential for improper installation as a result of the ambiguous arrows on the rear‐facing installation labels on the base. DJG also indicated that there appears to be a very low probability that improper installation is even possible in the vast majority of vehicles surveyed, which represent a good cross section of vehicles in the field.

Comments

Interested persons are invited to submit written data, views, and arguments on this petition. Comments must refer to the docket and notice number cited at the beginning of this notice and be submitted by any of the following methods:

a. By mail addressed to: U.S. Department of Transportation, Docket Operations, M-30, West Building Ground Floor, Room W12-140, 1200 New Jersey Avenue SE., Washington, DC 20590.

b. By hand delivery to: U.S. Department of Transportation, Docket Operations, M-30, West Building Ground Floor, Room W12-140, 1200 New Jersey Avenue SE., Washington, DC 20590. The Docket Section is open on weekdays from 10 a.m. to 5 p.m. except Federal Holidays.

c. Electronically: by logging onto the Federal Docket Management System (FDMS) Web site at http://www.regulations.gov/. Follow the online instructions for submitting comments. Comments may also be faxed to 1-(202) 493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Documents submitted to a docket may be viewed by anyone at the address and times given above. The documents may also be viewed on the Internet at http://www.regulations.gov by following the online instructions for accessing the dockets. DOT's complete Privacy Act Statement is available for review in the Federal Register published on April 11, 2000, (65 FR 19477-78).

The petition, supporting materials, and all comments received before the close of business on the closing date indicated below will be filed and will be considered. All comments and supporting materials received after the closing date will also be filed and will be considered to the extent possible. When the petition is granted or denied, notice of the decision will be published in the Federal Register pursuant to the authority indicated below.

DATES: Comment closing date: February 21, 2012.

Authority: (49 U.S.C. 30118, 30120: delegations of authority at CFR 1.50 and 501.8).

Issued on: January 12, 2012.
Claude H. Harris,
Director, Office of Vehicle Safety Compliance.

[FR Doc. 2012-936 Filed 1-18-12; 8:45 am]

BILLING CODE 4910-59-P